DEPARTMENT OF STATE

[Public Notice: 9597]

Notice of Public Meeting

The Department of State will conduct an open meeting at 10:00 a.m. on Thursday, July 14, 2016, in room 5Y23-21, U.S. Coast Guard Headquarters, 2703 Martin Luther King, Jr. Ave SE., Washington, DC 20593-7213. The primary purpose of the meeting is to prepare for the third Session of the International Maritime Organization's (IMO) Sub-Committee on Implementation of IMO Instruments (III 3) to be held at the IMO Headquarters, United Kingdom, on July 18-22, 2016.

The agenda items to be considered include:

—Decisions of other IMO bodies;

—Consideration and analysis of reports on alleged inadequacy of port reception facilities;

—Lessons learned and safety issues identified from the analysis of marine safety investigation reports;

—Measures to harmonize port state control (PSC) activities and procedures worldwide;

—Identified issues related to the implementation of IMO instruments from the analysis of PSC data;

—Analysis of consolidated audit summary reports;

—Updated survey guidelines under the Harmonized System of Survey and Certification (HSSC);

—Non-exhaustive list of obligations under the instruments relevant to the IMO Instruments Implementation Code (III Code); and

—Unified interpretation of provisions of IMO safety, security, and environment related conventions.

The public may attend this meeting up to the seating capacity of the room. To facilitate the building security process, and to request reasonable accommodation, those who plan to attend should contact the meeting coordinator, Mr. Christopher Gagnon, by email at christopher.j.gagnon@uscg.mil or by phone at (202) 372-1231, or in writing at 2703 Martin Luther King Jr. Ave. SE. Stop 7213, Washington DC 20593-7509 not later than July 5, 2016. Requests made after July 5, 2016 might not be able to be accommodated, and same day requests will not be accommodated due to the building's security process. Please note that due to security considerations, two valid, government issued photo identifications must be presented to gain entrance to Coast Guard Headquarters. It is recommended that attendees arrive to the Headquarters building no later than 30 minutes ahead of the scheduled meeting for the security screening process. The Headquarters building is accessible by taxi and public transportation. Parking in the vicinity of the building is extremely limited and not guaranteed. Due to the size of the room and security protocols at Coast Guard Headquarters, members of the public are encouraged to participate via teleconference. The access number for this teleconference line will be posted online at http://www.uscg.mil/imo/iii/default.asp. Additional information regarding this and other IMO public meetings may be found at: www.uscg.mil/imo.

Dated: May 28, 2016.
Jonathan W. Burby,
Coast Guard Liaison Officer, Office of Ocean and Polar Affairs, Department of State.

[FR Doc. 2016-13162 Filed 6-3-16; 8:45 am]

BILLING CODE 4710-09-P